DEPARTMENT OF COMMERCE

National Oceanic and Atmospheric Administration

RIN 0648-XE766

Marine Mammals; File No. 19669

AGENCY: National Marine Fisheries Service (NMFS), National Oceanic and Atmospheric Administration (NOAA), Commerce.

ACTION: Notice; issuance of permit.

SUMMARY: Notice is hereby given that a permit has been issued to Chicago Zoological Society [Michael J. Adkesson, D.V.M., Responsible Party], 3300 South Golf Rd., Brookfield, Illinois 60513 to receive, import, and export specimens from South American fur seal (Arctocephalus australis) and South American sea lion (Otaria flavescens) for scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Shasta McClenahan or Jennifer Skidmore, (301) 427-8401.

SUPPLEMENTARY INFORMATION: On August 29, 2016, notice was published in the Federal Register (81 FR 59190) that a request for a permit to receive, import, and export specimens for scientific research had been submitted by the above-named applicant. The requested permit has been issued under the authority of the Marine Mammal Protection Act of 1972, as amended (16 U.S.C. 1361 et seq.) and the regulations governing the taking and importing of marine mammals (50 CFR part 216).

The applicant will receive, import, and export biological samples taken for scientific research that continues the long term evaluation and monitoring of pinniped population health at the Punta San Juan reserve and marine protected area in Peru. The permit is valid through October 1, 2021.

In compliance with the National Environmental Policy Act of 1969 (42 U.S.C. 4321 et seq.), a final determination has been made that the activity proposed is categorically excluded from the requirement to prepare an environmental assessment or environmental impact statement.

Dated: October 4, 2016.
Julia Harrison,
Chief, Permits and Conservation Division, Office of Protected Resources, National Marine Fisheries Service.

[FR Doc. 2016-24400 Filed 10-7-16; 8:45 am]

BILLING CODE 3510-22-P